NUCLEAR REGULATORY COMMISSION

[NRC-2012-0270]

Content Specifications and Shielding Evaluations for Type B Transportation Packages

AGENCY: Nuclear Regulatory Commission.

ACTION: Regulatory issue summary; issuance.

SUMMARY: The U.S. Nuclear Regulatory Commission (NRC) is issuing Regulatory Issue Summary (RIS) 2013-04, “Content Specifications and Shielding Evaluations for Type B Transportation Packages.” This RIS clarifies the NRC's use of staff guidance in NUREG-1609, “Standard Review Plan for Transport Packages for Radioactive Material,” for the review of content specifications and shielding evaluations included in the Certificates of Compliance (CoC) and safety analysis reports (SARs) for Type B transportation packages. The RIS does not impose any additional regulatory requirements on NRC licensees.

ADDRESSES: Please refer to Docket ID NRC-2012-0270 when contacting the NRC about the availability of information regarding this document. You may access information related to this document, which the NRC possesses and are publicly available, using any of the following methods:

• Federal Rulemaking Web site: Go to http://www.regulations.gov and search for Docket ID NRC-2012-0270. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

The RIS is available in ADAMS under Accession No. ML13036A135 and on the NRC's public Web site at http://www.nrc.gov/reading-rm/doc-collections/gen-comm/reg-issues/. NUREG-1609 is available on the NRC's public Web site at http://www.nrc.gov/reading-rm/doc-collections/nuregs/staff/sr1609/final/index.html.

FOR FURTHER INFORMATION CONTACT: Ms. Veronica Wilson, Office of Nuclear Material Safety and Safeguards, U.S. Nuclear Regulatory Commission, Washington, DC 20555-0001; telephone: 301-492-3278; email: Veronica.Wilson@nrc.gov.

SUPPLEMENTARY INFORMATION:

I. Background and Public Comments

This RIS clarifies the U.S. Nuclear Regulatory Commission's (NRC's) use of staff guidance in NUREG-1609, “Standard Review Plan for Transport Packages for Radioactive Material,” for the review of content specifications and shielding evaluations included in the CoC and safety analysis reports for Type B transportation packages under 10 CFR part 71. This information will assist the NRC in the regulatory process and aid the addresses in developing thorough submittals.

The NRC issued this RIS as a draft for public comment on November 13, 2012 (77 FR 67678), for a 45-day comment period. The staff received three comment letters containing a total of 3 comments from Nuclear Information and Resource Service. The NRC staff considered all comments. The NRC staff's evaluation of the comments is publicly available in ADAMS under Accession No. ML13035A235. As a result of the comments received, the NRC did not make any changes to the final version of RIS 2013-04.

II. Backfitting and Issue Finality

There are no backfitting or issue finality provisions in 10 CFR part 71; therefore, these addresses—in their status as applicants for or holders of 10 CFR part 71 CoCs—are not protected by any backfitting or issue finality requirements.

This RIS does not impose on the addresses in their status as licensees or holders of NRC regulatory approvals under 10 CFR parts 50, 52, 70, 72, or 76 either backfitting (as defined in those parts) or actions which are inconsistent with the issue finality requirements in 10 CFR part 52. Consequently, the NRC staff did not address the documentation requirements of the backfitting provisions or the issue finality provisions of those parts.

III. Congressional Review Act

Under the Congressional Review Act of 1996, the NRC has determined that this action is not a major rule and has verified this determination with the Office of Information and Regulatory Affairs of OMB.

Dated at Rockville, Maryland, this 23rd day of April 2013.
For the Nuclear Regulatory Commission.
Mark Lombard,
Director, Division of Spent Fuel Storage and Transportation, Office of Nuclear Material Safety and Safeguards.

[FR Doc. 2013-10499 Filed 5-2-13; 8:45 am]

BILLING CODE 7590-01-P